DEPARTMENT OF DEFENSE

Office of the Secretary

Meeting of the Defense Department Advisory Committee on Women in the Services (DACOWITS)

AGENCY: Department of Defense.

ACTION: Notice.

SUMMARY: Pursuant to section 10(a), Public Law 92-463, as amended, notice is hereby given of a forthcoming meeting of the Defense Department Advisory Committee on Women in the Services (DACOWITS). The purpose of the Committee meeting is to finalize the annual report. The meeting is open to the public, subject to the availability of space.

DATES: October 27, 2003, 8:30 a.m.-6 p.m.; October 28, 2003, 8:30 a.m.-5 p.m.

ADDRESSES: Hilton in Crystal City at 2399 Jefferson Davis Hwy., Arlington, VA.

FOR FURTHER INFORMATION CONTACT: Lieutenant Commander Shannon Thaeler, USN, DACOWITS, 4000 Defense Pentagon, Room 3D769, Washington, DC 20301-4000. Telephone (703) 697-2122 or Fax (703) 614-6233.

SUPPLEMENTARY INFORMATION: Interested persons may submit a written statement for consideration by the Committee and make an oral presentation of such. Persons desiring to make an oral presentation or submit a written statement to the Committee must notify the point of contact listed above no later than noon, October 24, 2003. Oral presentations by members of the public will be permitted only on Monday, October 27, 2003, from 4:45 p.m. to 5 p.m. before the full Committee. Presentations will be limited to two minutes. Number of oral presentations to be made will depend on the number of requests received from members of the public. Each person desiring to make an oral presentation must provide the point of contact listed above with one (1) copy of the presentation by noon, October 24, 2003 and bring 35 copies of any material that is intended for distribution at the meeting. Persons submitting a written statement must submit one 35 copies of the statement to the DACOWITS staff by noon on October 24, 2003.

Meeting Agenda:

Monday, October 27, 2003

Welcome & Administrative Remarks

Committee Time—Finalizing Annual Report

Lunch (by invitation only)

Committee Time—Finalizing Annual Report

Public Forum (4:45 p.m.—5 p.m.)

Committee Time—Finalizing Annual Report

Tuesday, October 28, 2003

Committee Time—Finalizing Annual Report

Lunch (by invitation only)

Brief—Content Analysis of Site Visit Reports (1995-2001)

Committee Time—Topics for FY04

Senior Defense Officials

Dated: October 16, 2003.
Patricia L. Toppings,
Alternate OSD Federal Register Liaison Officer, Department of Defense.

[FR Doc. 03-26850 Filed 10-23-03; 8:45 am]

BILLING CODE 5001-08-M